DEPARTMENT OF TRANSPORTATION

Federal Aviation Administration

Staffing-Related Relief Concerning Operations at Ronald Reagan Washington National Airport, John F. Kennedy International Airport, and LaGuardia Airport, October 26, 2025, Through March 28, 2026 (Winter 2025/2026), and March 29, 2026, Through October 24, 2026 (Summer 2026)

AGENCY: Federal Aviation Administration (FAA), Department of Transportation.

ACTION: Limited Waiver of the Slot Usage Requirement at DCA, JFK, and LGA.

SUMMARY: This action extends the Staffing-Related Relief Concerning Operations at Ronald Reagan Washington National Airport, John F. Kennedy International Airport, and LaGuardia Airport, initially published on September 20, 2023, and extended to October 26, 2025, through March 28, 2026 (Winter 2025/2026), and March 29, 2026, through October 24, 2026 (Summer 2026). The limited waiver is effective until October 24, 2026, and does not apply to any slots granted by the Department of Transportation pursuant to Section 505 of the FAA Reauthorization Act of 2024.

DATES: This action is effective on July 23, 2025.

ADDRESSES: Requests may be submitted by mail to Slot Administration Office, System Operations Services, AJR-0, Room 300W, 800 Independence Avenue SW, Washington, DC 20591, or by email to: 7-awa-slotadmin@faa.gov.

FOR FURTHER INFORMATION CONTACT: Al Meilus, Slot Administration and Capacity Analysis, FAA ATO System Operations Services, AJR-G5, Federal Aviation Administration, 800 Independence Avenue SW, Washington, DC 20591; telephone (202) 267-2822; email al.meilus@faa.gov.

SUPPLEMENTARY INFORMATION:

Background

The New York Terminal Radar Approach Control facility (N90) currently provides Air Traffic Control (ATC) services to overhead flights in the Northeast corridor and to the New York City area airports, including John F. Kennedy International Airport (JFK) and LaGuardia Airport (LGA). The airspace complexity resulting from the close proximity of the major commercial airports serving the New York City region is a significant contributing factor to delays at JFK and LGA. The FAA continues to evaluate technological solutions to alleviate this cause of delay, but until then, the FAA expects this to continue to contribute to delays at both airports. Against this challenging backdrop, although FAA is accelerating the hiring and training for air traffic controllers, N90 continues to face staffing shortfalls that impact ATC's ability to efficiently manage the volume of air traffic in this congested airspace.

As a result of the staffing constraints, the FAA previously issued relief from minimum usage requirements on September 20, 2023, which applied to the Winter 2023/2024 season and Summer 2024 season.¹ Subsequently, that relief was extended through the Winter 2024/2025 season and Summer 2025 season.² The FAA has determined that N90 will need to reach at least 70% of its targeted number of onboard Certified Professional Controllers (CPCs) before ATC can efficiently manage the full capacity of the New York airspace that was in place prior to May 15, 2023.

¹ 88 FR 64793 (Sept. 20, 2023).

² 89 FR 49256 (June 11, 2024).

The FAA has made significant changes to increase N90 staffing through a combination of incentive and training programs, as well as by relocating control of the Newark Liberty International Airport (EWR) area from N90 to the Philadelphia Terminal Radar Approach Control (PHL) beginning in late July 2024. The operational impact of changes to address N90 staffing shortages will not be realized immediately, but charts a path to mitigating the impact in the next 12-18 months.

The targeted staffing number at N90 is 226 CPCs; the current CPC onboard number at N90 is 123 (representing 54 percent staffed).

At one time, N90 had been responsible for overseeing the Newark area, with 33 CPCs designated for that area. In July of 2024, the FAA relocated control of the Newark area from N90 to PHL. Twenty-four of the 33 CPCs also relocated to PHL, while the remaining CPCs started training in preparation for reassignment to other areas in N90.³

³ Previous iterations of this staffing-related relief included EWR. However, after the EWR delay reduction meetings held on May 14-16, 2025, the FAA determined the targeted scheduling limits at EWR needed to decrease due to staffing, construction, and technology issues at the airport. EWR will be addressed in a separate action in order to address the particular circumstances present at that airport. See 90 FR 20545 (May 14, 2025).

At N90, aggressive training plans are in place to certify both new trainees and those CPCs previously overseeing the Newark area who did not transfer to PHL. The FAA believes that those CPCs in training for reassignment will certify much more quickly than new trainees who do not have previous N90 experience. This will allow N90 to make significant gains in its staffing percentages over 2025 and 2026. N90 currently has 76 trainees in various phases of training.

With ever-growing demand for air travel in the New York City region, additional measures are necessary to ensure that the FAA is able to provide expeditious services to aircraft operators and their passengers that traverse this airspace. Early discussions with carriers indicate an interest in increasing operations after October 26, 2025, through most of Winter 2025/2026 and for all of Summer 2026. This being the case, the FAA expects increased delays and cancellations in the New York region to exceed those experienced over Summer 2022 and Winter 2022/2023 ⁴ if a waiver similar to the one that has been in effect from Summer 2023 through Summer 2025 is not extended through Summer 2026 to allow carriers to reduce schedules without penalties for non-use of slots. Reducing schedules will improve the alignment between scheduled operations and actual operations, will help prevent unnecessary delays, will help optimize the efficient use of the airports' resources, and will help deliver passengers to their destinations more reliably on time.

⁴ Refer to “Analysis” section for delay analysis.

Summary of Petitions Received

On April 21, 2025, Airlines for America (A4A) submitted a petition on behalf of its member carriers ⁵ requesting an extension of the current relief provided by the FAA due to post-pandemic effects on ATC staffing at N90 through the end of the Summer 2027 season. A4A asserts that the current slot waiver successfully created a better travel experience for consumers and that the underlying conditions creating the need for a waiver still exist as staffing shortages persist. A4A expresses appreciation for the steps taken towards hiring and retaining CPCs and in moving oversight of the Newark airspace from N90 to PHL, but stated that these initiatives would take years to stabilize staffing levels effectively. In addition, A4A requests that the FAA restore carriers' ability to request retroactive relief if the impacts of controller staffing shortages are even more severe than anticipated and that the FAA not reallocate returned slots for ad-hoc use during the waiver period. Finally, A4A requests that the FAA make a timely decision regarding relief as time is needed to give carriers stability and the ability to plan.

⁵ A4A members are Alaska Air Group, Inc.; American Airlines Group, Inc.; Atlas Air Worldwide Holdings, Inc.; Delta Air Lines, Inc.; FedEx Corp.; Hawaiian Airlines; JetBlue Airways Corp.; Southwest Airlines Co.; United Airlines Holdings, Inc.; and United Parcel Service Co. Air Canada is an associate member.

Standard

At JFK and LGA, slot-holding carriers must use each assigned slot at least 80 percent of the time.⁶ The FAA will withdraw slots not meeting the minimum usage requirements. The FAA may waive the 80% usage requirement in the event of a highly unusual and unpredictable condition that is beyond the control of the slot-holding air carrier, and which affects carrier operations for a period of five consecutive days or more.⁷

⁶ Operating Limitations at John F. Kennedy International Airport, 89 FR 41486 (May 13, 2024); Operating Limitations at New York LaGuardia Airport, 89 FR 41484 (May 13, 2024).

⁷ At JFK, FAA will determine historical rights to operating authorizations and withdrawal of those rights due to insufficient usage on a seasonal basis and in accordance with the schedule approved by FAA prior to the commencement of the applicable season. See JFK Order, 89 FR at 41488. At LGA, FAA will withdraw any operating authorization not used at least 80% of the time over a two-month period. See LGA Order, 89 FR at 41485.

At Ronald Reagan Washington National Airport (DCA), the FAA also will recall any slot not used at least 80 percent of the time over a two-month period.⁸ The FAA may waive this minimum usage requirement in the event of a highly unusual and unpredictable condition that is beyond the control of the slot-holding carrier, and which exists for a period of nine or more days.⁹

⁸ See 14 CFR 93.227(a).

⁹ See 14 CFR 93.227(j).

In determining historical rights to allocated slots, including whether to grant a waiver of the usage requirement, the FAA seeks to ensure the efficient use of valuable aviation infrastructure and maximize the benefits to both airport users and the traveling public. The minimum usage requirement is expected to accommodate routine cancellations under all but the most unusual circumstances. Carriers proceed at their own risk if they make scheduling decisions in anticipation of the FAA granting a slot usage waiver.

Analysis

The number of certified controllers at N90 is still not sufficient to allow the FAA to handle normal traffic levels. The FAA has worked with NATCA on a long-term solution to solve thechronic low levels of fully certified air traffic controllers at that facility through a combination of incentive and training programs, as well as relocating control of the EWR area to PHL. The FAA will continue to partner with NATCA as it continues efforts to remediate ATC staffing shortages at N90.

Due to the volume of originating and destination flights in the New York City region, as well as the interdependency and complexity of the airspace surrounding JFK and LGA, delays caused in part by N90 staffing shortfalls are expected to significantly impact carriers' ability to operate and meet minimum usage requirements in Winter 2025/2026 and Summer 2026. Absent increased flexibility, the FAA anticipates a high likelihood of congestion, delay, and cancellations at JFK and LGA.

Typically, the 20 percent non-utilization allowed under the minimum usage requirement accounts for cancellations due to ATC staffing delays; however, the extent of N90 staffing shortfalls and the expected numbers of scheduled operations for Winter 2025/2026 and Summer 2026 present a highly unusual and unpredictable condition beyond the control of carriers that will impact operations through the entire Winter 2025/2026 and Summer 2026 scheduling seasons.

Using the Annual Service Volume (ASV) model,¹⁰ the FAA projected the delay the NYC airports would experience in the absence of a waiver for Summer 2024.¹¹ Using Summer 2022 data ¹² as baseline comparison, the FAA estimated Summer 2024 would have experienced an increase of operations of 8.8-11 percent,¹³ which would have resulted in 2.3 to 2.8 million minutes of additional delay, or 53-65 percent additional delay, compared to the delay experienced in Summer 2022. Because demand has remained the same or increased, in the absence of a waiver, the FAA expects these delay numbers, at a minimum, to remain valid through Summer 2026.

¹⁰ FAA-developed modeling suite of tools for conducting operational impact analysis for airports and to establish the annual service volume for airports. ASV simulations relate total annual operations to a target delay value and are used by FAA in reports to Congress that identify the airports projected to constrain the NAS. See https://www.faa.gov/about/office_org/headquarters_offices/ato/service_units/systemops/perf_analysis/sim_tools.

¹¹ FAA projected a Summer 2024 scenario because FAA has already received the air carrier schedules for Summer 2024.

¹² Summer 2022 data is used as baseline for comparison because this was the last summer scheduling season unaffected by the ATC waivers.

¹³ Under the current waiver, carriers returned 9% of their initially submitted schedules. Compared to Summer 2023, scheduled operations in Summer 2024 increased by 2%. If FAA assumes an 80% actual usage rate, that results in 8.8% (that is, ((0.09 + 0.02) × 0.8 = 0.088) increase of actual operations. If FAA assumes 100% actual usage rate, then that would be an 11% (0.09 + 0.02) increase.

Therefore, a waiver of minimum slot usage requirements at JFK and LGA through October 24, 2026, is necessary to allow carriers to reduce operations to enable scheduling and operational stability for the benefit of the flying public.

In addition, because New York City-DCA is a high-frequency market for multiple carriers, the FAA recognizes this market is a likely target for carriers to consolidate flights while retaining their network connectivity. If carriers choose to reduce their schedules in the New York City-DCA market, the FAA encourages, to the extent practical, carriers to utilize their DCA slots to operate to other destinations. However, if carriers choose not to utilize their DCA slots elsewhere, the FAA may consider providing relief to DCA slots that are impacted by the reduction in operations at the New York City airports, except that the limited waiver of the minimum slot usage requirements is not available for any slots granted by the DOT pursuant to Section 502 of the FAA Reauthorization Act of 2024 (Pub. L. 118-63).

Carriers have the ability to request retroactive relief; however, they should be aware that the N90 staffing shortfalls will not likely form a sufficient basis for further relief after Winter 2025/2026 and Summer 2026 because carriers will have had sufficient opportunity to plan and take remedial action under this waiver policy. The FAA does not foresee providing additional post-hoc relief associated with ATC staffing given the extraordinary relief provided here. Given this relief, operational impacts associated with N90 staffing beyond Winter 2025/2026 and Summer 2026 will likely not have been beyond carriers' control and will not serve as a justification for a separate waiver.

Moreover, access to the New York City airspace is a scarce and valuable public asset, and airlines and airports should be making the most appropriate use of this asset in support of the traveling public and the national economy without broad, prospective waivers. Going forward beyond the Summer 2026 season, the FAA does not anticipate issuing further broad, prospective relief. As stated above, carriers will retain the ability to submit post-hoc waiver requests for flights that could not be operated and that meet the applicable waiver standard due to ATC staffing deficiencies.

Decision

The FAA determined that the post-pandemic effects on N90 staffing meet the applicable waiver standards and warrant a limited waiver of minimum slot usage requirements at JFK and LGA to allow carriers to return up to 10 percent of their slots at each airport, as well as impacted operations between DCA and JFK or LGA. Despite staffing projections indicating N90 will not reach 70 percent of the targeted staffing level until after the conclusion of 2026, the FAA is taking a measured approach and providing relief in this waiver notice only until the end of Summer 2026. The FAA will re-evaluate the staffing levels at N90 and the impact to operations in the New York City area before deciding if a waiver beyond Summer 2026 is necessary.

Carriers seeking to return their slots must do so by August 15, 2025, for Winter 2025/2026 (October 26, 2025, through March 28, 2026); and by January 15, 2026, for Summer 2026 (March 29, 2026, through October 24, 2026) to be eligible for relief under this waiver. For DCA, this relief is available only for flights impacted by operations to or from JFK or LGA. Furthermore, the FAA expects carriers to up-gauge aircraft serving the affected airports to the extent possible to maintain passenger throughput and minimize the impact on consumers. The FAA also expects carriers to maintain connections between the affected airports and regional airports to the extent possible in support of continuous scheduled interstate air transportation for small communities and isolated areas. The FAA will closely coordinate with the Office of the Secretary of Transportation, which will be monitoring for indications of unfair, deceptive, or anticompetitive practices or other unlawful economic activity associated with or resulting from the relief granted by this notice. In addition, the FAA expects carriers to return scheduled operations in the peak delay periods of the day. The following hours (in local time) are the most prone to delay at each airport: JFK: 1300-2259 and LGA: 1300-2159.

The FAA will not reallocate the temporarily returned slots at JFK and LGA, as the goal is to reduce the total volume of operations in the New York City region. Carriers are encouraged to utilize their DCA slots in other markets before returning them to the FAA. In the event DCA slots are returned under this waiver, other carriers will have an opportunity to operate the slots on an ad hoc basis without historic precedence.

The FAA will treat as used the specific slots returned in accordance with the conditions in this notice for the period from October 26, 2025, through March 28, 2026, (Winter 2025/2026) and March 29, 2026, through October 24, 2026 (Summer 2026).

The relief is subject to the following conditions:

1. The specific slots must be returned to the FAA by August 15, 2025, for Winter 2025/2026; and by January 15, 2026, for Summer 2026.

2. This waiver applies only to slots that have corresponding, scheduled operations during the period of the grant. A carrier temporarily returning a slot to the FAA for relief under this waiver must identify corresponding scheduled operations for Winter 2025/2026, or approved slots for Summer 2026. The FAA may validate information against published schedule data prior to the issuance of this notice, and other operational data maintained by the FAA. Slots returned without an associated scheduled and canceled operation will not receive relief.

3. Slots newly allocated for initial use since the previous corresponding scheduling season are not eligible for relief.

4. Slot exemptions authorized at DCA by the Department of Transportation are not eligible for relief.

5. Carriers must not engage in unfair, deceptive, or anticompetitive practices regarding their slot usage, leasing agreements, or operations associated with the relief provided by this notice.

Issued in Washington, DC, on July 23, 2025.
William McKenna,
Chief Counsel.
Shawn M. Kozica,
Deputy Vice President (A), System Operations Services.

[FR Doc. 2025-14100 Filed 7-23-25; 4:15 pm]

BILLING CODE 4910-13-P